DEPARTMENT OF STATE

[Public Notice 11776]

Extension of Waiver of Section 907 of the Freedom Support Act With Respect to Assistance to the Government of Azerbaijan

Pursuant to the authority contained in title II of the Foreign Operations, Export Financing, and Related Programs Appropriations Act, 2002 (Pub. L. 107-115), E.O. 12163, as amended by E.O. 13346, and pursuant to Delegation of Authority 513, I hereby determine and certify that extending the waiver of section 907 of the FREEDOM Support Act of 1992 (Pub. L. 102-511) with respect to Azerbaijan:

• is necessary to support U.S. efforts to counter international terrorism; or

• is necessary to support the operational readiness of United States Armed Forces or coalition partners to counter international terrorism; or

• is important to Azerbaijan's border security; and

• will not undermine or hamper ongoing efforts to negotiate a peaceful settlement between Armenia and Azerbaijan or be used for offensive purposes against Armenia.

Accordingly, I hereby extend the waiver of section 907 of the FREEDOM Support Act. This Determination shall be published in the Federal Register, and the Determination and Memorandum of Justification shall be provided to the appropriate committees in Congress.

Dated: June 21, 2022.
Brian P. McKeon,
Deputy Secretary of State for Management and Resources.

[FR Doc. 2022-14190 Filed 7-1-22; 8:45 am]

BILLING CODE 4710-23-M